DEPARTMENT OF HOMELAND SECURITY

Federal Emergency Management Agency

[Docket ID FEMA-2013-0002]

Final Flood Hazard Determinations

AGENCY: Federal Emergency Management Agency, DHS.

ACTION: Final Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of July 8, 2013 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and ninety (90) days have elapsed since that publication. The Deputy Associate Adminstrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

Community | Community map repository address
Fairfield County, Connecticut (All Jurisdictions) | Docket No.: FEMA-B-1247
City of Bridgeport | City Hall Annex, 999 Broad Street, Bridgeport, CT 06604.
City of Norwalk | City Hall, 125 East Avenue, Norwalk, CT 06851.
City of Stamford | Government Center, 888 Wahington Boulevard, Stamford, CT 06901.
Town of Darien | Town Hall, 2 Renshaw Road, Darien, CT 06820.
Town of Fairfield | John J. Sullivan Independence Hall, 725 Old Post Road, Fairfield, CT 06824.
Town of Greenwich | Town Hall, 101 Field Point Road, Greenwich, CT 06830.
Town of Stratford | Town Hall, 2725 Main Street, Stratford, CT 06615.
Town of Westport | Town Hall, 110 Myrtle Avenue, Westport, CT 06880.
New Haven County, Connecticut (All Jurisdictions) | Docket No.: FEMA-B-1247
Borough of Woodmont | Woodmont Borough Hall, 31 Clinton Street, Milford, CT 06460.
City of Milford | City Hall, 110 River Street, Milford, CT 06460.
City of New Haven | City Hall, 165 Church Street, New Haven, CT 06510.
City of West Haven | City Hall, 355 Main Street, West Haven, CT 06516.
Town of Branford | Town Hall, 1019 Main Street, Branford, CT 06405.
Town of East Haven | Town Hall, 250 Main Street, East Haven, CT 06512.
Town of Guilford | Town Hall, 31 Park Street, Guilford, CT 06437.
Town of Hamden | Government Center, 2750 Dixwell Avenue, Hamden, CT 06518.
Town of Madison | Town Offices, 8 Campus Drive, Madion, CT 06443.
Town of North Haven | Town Hall, 18 Church Street, North Haven, CT 06473.
Androscoggin County, Maine (All Jurisdictions) | Docket No.: FEMA-B-1250
City of Auburn | Auburn Hall, 60 Court Street, Auburn, ME 04210.
City of Lewiston | City Hall, 27 Pine Street, Lewiston, ME 04240.
Town of Durham | Town Office, 630 Hallowell Road, Durham, ME 04222.
Town of Greene | Town Office, 220 Main Street, Greene, ME 04236.
Town of Leeds | Town Office, 8 Community Drive, Leeds, ME 04263.
Town of Lisbon | Town Office, 300 Lisbon Street, Lisbon, ME 04250.
Town of Livermore | Town Office, 10 Crash Road, Livermore, ME 04253.
Town of Livermore Falls | Town Office, 2 Main Street, Livermore Falls, ME 04254.
Town of Mechanic Falls | Town Office, 108 Lewiston Street, Mechanic Falls, ME 04256.
Town of Minot | Town Office, 329 Woodman Hill Road, Minot, ME 04258.
Town of Poland | Town Office, 1231 Maine Street, Poland, ME 04274.
Town of Sabattus | Town Office, 190 Middle Road, Sabattus, ME 04280.
Town of Turner | Town Office, 11 Turner Center Road, Turner, ME 04282.
Town of Wales | Town Office, 302 Centre Road, Wales, ME 04280.

(Catalog of Federal Domestic Assistance No. 97.022, “Flood Insurance.”)

Roy Wright,
Deputy Associate Administrator for Mitigation, Department of Homeland Security, Federal Emergency Management Agency.

[FR Doc. 2013-05181 Filed 3-5-13; 8:45 am]

BILLING CODE 9110-12-P